DEPARTMENT OF TRANSPORTATION

Federal Motor Carrier Safety Administration

[Docket No. FMCSA-2018-0347]

Commercial Driver's License Standards: Application for Exemptions; Navistar, Inc. (Navistar)

AGENCY: Federal Motor Carrier Safety Administration (FMCSA), DOT.

ACTION: Notice of application for exemption; request for comments.

SUMMARY: FMCSA announces that Navistar, Inc. (Navistar) has requested an exemption from the Federal requirement to hold a U.S. commercial driver's license (CDL) for two commercial motor vehicle (CMV) drivers, Mr. Thomas Nickels, Senior Vice President, Engineering Optimization with MAN Truck & Bus SE in Munich, Germany (MAN), and Mr. Lukas Walter, Senior Vice President, Engineering Powertrain for MAN, both of whom hold a valid German commercial license. MAN is partnering with Navistar to develop technological advancements in fuel economy and emissions reductions. Mr. Nickels and Mr. Walter need to test drive Navistar vehicles on U.S. roads to better understand product requirements in “real world” environments and verify results. Navistar believes that the requirements for a German commercial license ensure that operations under the exemption would likely achieve a level of safety equivalent to or greater than the level that would be obtained in the absence of the exemption. FMCSA requests public comments on Navistar's application for exemption.

DATES: Comments must be received on or before July 19, 2019.

ADDRESSES: You may submit comments bearing the Federal Docket Management System (FDMS) Docket ID FMCSA-2018-0347 using any of the following methods:

• Federal eRulemaking Portal: www.regulations.gov. Follow the online instructions for submitting comments.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, between 9 a.m. and 5 p.m., Monday through Friday, except Federal holidays.

• Fax: 1-202-493-2251

Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC, between 9 a.m. and 5 p.m., ET, Monday through Friday, except Federal holidays. The on-line FDMS is available 24 hours each day, 365 days each year.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Pearlie Robinson, FMCSA Driver and Carrier Operations Division; Office of Carrier, Driver and Vehicle Safety Standards; Telephone: 202-366-4325. Email: MCPSD@dot.gov. If you have questions on viewing or submitting material to the docket, contact Docket Services at (202) 366-9826.

SUPPLEMENTARY INFORMATION:

I. Public Participation and Request for Comments

FMCSA encourages you to participate by submitting comments and related materials.

Submitting Comments

If you submit a comment, please include the docket number for this notice (FMCSA-2018-0347), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number, “FMCSA-2018-0347” in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period and may grant or not grant this application based on your comments.

II. Legal Basis

FMCSA has authority under 49 U.S.C. 31136(e) and 31315 to grant exemptions from the Federal Motor Carrier Safety Regulations. FMCSA must publish a notice of each exemption request in the Federal Register (49 CFR 381.315(a)). The Agency must provide the public an opportunity to inspect the information relevant to the application, including any safety analyses that have been conducted. The Agency must provide an opportunity for public comment on the request.

The Agency reviews the safety analyses and the public comments and determines whether granting the exemption would likely achieve a level of safety equivalent to or greater than the level that would be achieved by the current regulation (49 CFR 381.305). The Agency's decision must be published in the Federal Register (49 CFR 381.315(b)) with the reason for the granting or denial, and, if granted, the specific person or class of persons receiving the exemption, and the regulatory provision or provisions from which exemption is granted. The notice must also specify the effective period of the exemption (up to 5 years), and explain the terms and conditions of the exemption. The exemption may be renewed (49 CFR 381.300(b)).

III. Request for Exemption

Navistar has applied for an exemption for Mr. Thomas Nickels and Mr. Lukas Walter from 49 CFR 383.23, which prescribes licensing requirements for drivers operating CMVs in interstate or intrastate commerce. Both drivers are unable to obtain a CDL due to their lack of residency in the United States. Copies of the exemption applications are included in the docket referenced at the beginning of this notice.

The exemption would allow these drivers to operate CMVs in interstate or intrastate commerce to help develop technology advancements in fuel economy and emissions reductions. Mr. Nickels and Mr. Walter need to drive Navistar vehicles on public roads to better understand product requirements for these systems in “real world” environments in the U.S. market. According to Navistar, both drivers will drive typically for no more than 8 hours per day for 2 consecutive days with 50 percent of the test driving on two-lane State highways and 50 percent on Interstate highways. The driving will consist of no more than 600 miles during a two-day period, at 300 miles per day. In all cases, drivers will be accompanied by a U.S. CDL holder familiar with the routes to be traveled.

Mr. Nickels and Mr. Walter hold valid German commercial licenses and, as explained by Navistar in its exemption request, the requirements for that license ensure that, operating under the exemption, these drivers would likely achieve a level of safety equivalent to or greater than the level that would be achieved by the current regulation.

Furthermore, according to Navistar, both drivers are familiar with the operation of CMVs worldwide. Navistar requests that the exemption cover the maximum allowable duration of 5 years.

IV. Method To Ensure an Equivalent or Greater Level of Safety

Navistar notes that the Agency has previously determined, through the review of multiple CDL exemptions applications for German-domiciled drivers, that the process for obtaining a German commercial license is comparable to, or as effective as, the requirements of part 383, and adequately assesses the driver's ability to operate CMVs in the U.S. The Agency recently granted one of Navistar's drivers a similar exemption [April 15, 2019 (84 FR 15283)]. Since 2015, the Agency has granted Daimler drivers similar exemptions: [March 27, 2015 (80 FR 16511); October 5, 2015 (80 FR 60220); December 7, 2015 (80 FR 76059); December 21, 2015 (80 FR 79410)]; July 12, 2016 (81 FR 45217); July 25, 2016 (81 FR 48496); August 17, 2017 (82 FR 39151); September 10, 2018 (83 FR 45742)]. The Agency has not received any information or reports indicating there have been safety performance problems with individuals holding German commercial licenses and operating CMVs on public roads in the United States.

Notwithstanding the previous decisions, the Agency requests public comments concerning Mr. Nickels and Mr. Walter and whether exemptions should be granted to enable them to operate CMVs in the United States.

Issued on: June 12, 2019.
Larry W. Minor,
Associate Administrator for Policy.

[FR Doc. 2019-13011 Filed 6-18-19; 8:45 am]

BILLING CODE 4910-EX-P